DEPARTMENT OF COMMERCE

International Trade Administration

[A-533-843, A-560-818, A-579-901]

Final Results of Expedited Sunset Review of Antidumping Duty Orders: Lined Paper Products From India, Indonesia, and the People's Republic of China

AGENCY: Import Administration, International Trade Administration, Department of Commerce.

DATES: Effective Date: December 6, 2011.

SUMMARY: On August 1, 2011, the Department of Commerce (“the Department”) initiated a sunset review of the antidumping duty (“AD”) orders on lined paper products (“CLPP”) from India, Indonesia, and the People's Republic of China (“PRC”) pursuant to section 751(c) of the Tariff Act of 1930, as amended (“the Act”). See Initiation of Five-Year (“Sunset”) Review, 76 FR 45778 (August 1, 2011). On the basis of a notice of intent to participate and an adequate substantive response filed on behalf of domestic interested parties and an inadequate response (in this case, no response) from respondent interested parties in each of these reviews, the Department decided to conduct expedited sunset reviews of these AD orders pursuant to section 751(c)(3)(B) of the Act and 19 CFR 351.218(e)(1)(ii)(A). As a result of these reviews, the Department finds that revocation of the antidumping duty orders would likely lead to a continuation or recurrence of dumping at the margins identified in the “Final Results of Review” section of this notice.

FOR FURTHER INFORMATION CONTACT: George McMahon, AD/CVD Operations, Office 3, Import Administration, International Trade Administration, U.S. Department of Commerce, 14th Street and Constitution Avenue NW., Washington, DC 20230; telephone (202) 482-1167.

SUPPLEMENTARY INFORMATION:

Background

On August 1, 2011, the Department initiated sunset reviews of the AD orders on CLPP from India, Indonesia, and the PRC pursuant to section 751(c) of the Act. See Initiation of Five-Year (“Sunset”) Reviews, 76 FR 45778 (August 1, 2011). The Department received a notice of intent to participate in each of these reviews from the Association of American School Paper Suppliers (“AASPS”) and its individual members—MWV Consumer & Office Products (“MWV”), Norcom, Inc., and TopFlight, Inc. (collectively, “petitioners”), within the deadline specified in 19 CFR 351.218(d)(1)(i). The petitioners claimed interested party status for each of these reviews under section 771(9)(C) of the Act, as domestic producers of CLPP.

The Department received a complete substantive response from the petitioners for each of these reviews within the 30-day deadline specified in 19 CFR 351.218(d)(3)(i). However, the Department did not receive a substantive response from any respondent interested party to either of these proceedings. As a result, pursuant to section 751(c)(3)(B) of the Act and 19 CFR 351.218(e)(1)(ii)(C)(2), the Department conducted expedited reviews of these AD orders.

Scope of the Orders

The scope of these orders includes certain lined paper products, typically school supplies,¹ composed of or including paper that incorporates straight horizontal and/or vertical lines on ten or more paper sheets,² including but not limited to such products as single- and multi-subject notebooks, composition books, wireless notebooks, looseleaf or glued filler paper, graph paper, and laboratory notebooks, and with the smaller dimension of the paper measuring 6 inches to 15 inches (inclusive) and the larger dimension of the paper measuring 8¾ inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of these orders whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated, included with, or attached to the product, cover and/or backing thereto.

¹ For purposes of this scope definition, the actual use or labeling of these products as school supplies or non-school supplies is not a defining characteristic.

² There shall be no minimum page requirement for looseleaf filler paper.

Specifically excluded from the scope of these orders are:

• Unlined copy machine paper;

• Writing pads with a backing (including but not limited to products commonly known as “tablets,” “note pads,” “legal pads,” and “quadrille pads”), provided that they do not have a front cover (whether permanent or removable). This exclusion does not apply to such writing pads if they consist of hole-punched or drilled filler paper;

• Three-ring or multiple-ring binders, or notebook organizers incorporating such a ring binder provided that they do not include subject paper;

• Index cards;

• Printed books and other books that are case bound through the inclusion of binders board, a spine strip, and cover wrap;

• Newspapers;

• Pictures and photographs;

• desk and wall calendars and organizers (including but not limited to such products generally known as “office planners,” “time books,” and “appointment books”);

• Telephone logs;

• Address books;

• Columnar pads & tablets, with or without covers, primarily suited for the recording of written numerical business data;

• Lined business or office forms, including but not limited to: preprinted business forms, lined invoice pads and paper, mailing and address labels, manifests, and shipping log books;

• Lined continuous computer paper;

• Boxed or packaged writing stationery (including but not limited to products commonly known as “fine business paper,” “parchment paper,” and “letterhead”), whether or not containing a lined header or decorative lines;

• Stenographic pads (“steno pads”), Gregg ruled,³ measuring 6 inches by 9 inches;

³ “Gregg ruling” consists of a single- or double-margin vertical ruling line down the center of the page. For a six-inch by nine-inch stenographic pad, the ruling would be located approximately three inches from the left of the book.

Also excluded from the scope of these orders are the following trademarked products:

• Fly™ lined paper products: A notebook, notebook organizer, loose or glued note paper, with papers that are printed with infrared reflective inks and readable only by a Fly™ pen-top computer. The product must bear the valid trademark Fly™.⁴

⁴ Products found to be bearing an invalidly licensed or used trademark are not excluded from the scope.

• Zwipes™: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™.⁵

⁵ Products found to be bearing an invalidly licensed or used trademark are not excluded from the scope.

• FiveStar® Advance™: A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1” wide elastic fabric band. This band is located 2⅜″ from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar® Advance™.⁶

⁶ Products found to be bearing an invalidly licensed or used trademark are not excluded from the scope.

• FiveStar Flex™: A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover. The product must bear the valid trademark FiveStar Flex™.⁷

⁷ Products found to be bearing an invalidly licensed or used trademark are not excluded from the scope.

Since the issuance of the PRC order, the Department has clarified the scope of the order in response to numerous scope inquiries. In addition, on September 23, 2011, the Department revoked, in part, the PRC AD order with respect to FiveStar® Advance™ notebooks and notebook organizers without PVC coatings. See Certain Lined Paper Products From People's Republic of China: Final Results of Antidumping Duty Changed Circumstances Review and Revocation, in Part, 76 FR 60803 (September 30, 2011).

Merchandise subject to these orders is typically imported under headings 4810.22.5044, 4811.90.9050, 4820.10.2010, 4820.10.2020, 4820.10.2030, 4820.10.2040, 4820.10.2060, and 4820.10.4000 of the Harmonized Tariff Schedule of the United States (“HTSUS”). The tariff classifications are provided for convenience and customs purposes; however, the written description of the scope of the orders is dispositive.

Analysis of Comments Received

All issues raised in these reviews are addressed in the Issues and Decision Memorandum (“Decision Memorandum”) from Christian Marsh, Deputy Assistant Secretary for Antidumping and Countervailing Duty Operations, to Paul Piquado, Assistant Secretary for Import Administration, dated concurrently with this notice, which is hereby adopted by this notice. Parties can find a complete discussion of all issues raised in this review and the corresponding recommendation in this public memorandum which is on file electronically via Import Administration's Antidumping and Countervailing Duty Centralized Electronic Service System (“IA ACCESS”). Access to IA ACCESS is available in the Central Records Unit, room 7046, of the main Commerce building. In addition, a complete version of the Decision Memorandum can be accessed directly on the Web at http://ia.ita.doc.gov/frn. The electronic versions of the Decision Memorandum in IA ACCESS and on the Web are identical in content.

Final Results of Review

Pursuant to sections 752(c)(1) and (3) of the Act, we determine that revocation of the antidumping duty orders on CLPP from India, Indonesia, and the PRC would be likely to lead to continuation or recurrence of dumping at the following weighted-average percentage margins:

Country manufacturer/exporter | Margin (percent)
India:
Aero Exports | 23.17
Kejriwal Paper Limited | 3.91
Navneet Publications (India) Ltd. | 23.17
All Others | 3.91
Indonesia:
PT. Pabrik Kertas Tjiwi Kimia Tbk | 118.63
All Others | 97.85
PRC

Exporter | Producer | Margin (percent)
Shanghai Lian Li Paper Products Co., Ltd | Shanghai Lian Li Paper Products Co., Ltd | 94.91
Shanghai Lian Li Paper Products Co., Ltd | Sentian Paper Products Co., Ltd | 94.91
Shanghai Lian Li Paper Products Co., Ltd | Shanghai Miaopaofang Paper Products Co., Ltd | 94.91
Shanghai Lian Li Paper Products Co., Ltd | Shanghai Pudong Wenbao Paper Products Co., Ltd | 94.91
Shanghai Lian Li Paper Products Co., Ltd | Changshu Changjiang Printing Co., Ltd | 94.91
Shanghai Lian Li Paper Products Co., Ltd | Shanghai Loutang Stationery Factory | 94.91
Shanghai Lian Li Paper Products Co., Ltd | Shanghai Beijia Paper Products Co., Ltd | 94.91
Ningbo Guangbo Imports and Exports Co. Ltd | Ningbo Guangbo Plastic Products Manufacture Co., Ltd | 78.38
Yalong Paper Products (Kunshan) Co., Ltd | Yalong Paper Products (Kunshan) Co., Ltd | 78.38
Suzhou Industrial Park Asia Pacific Paper Converting Co., Ltd | Suzhou Industrial Park Asia Pacific Paper Converting Co., Ltd | 78.38
Sunshine International Group (HK) Ltd | Dongguan Shipai Tonzex Electronics Plastic Stationery Factory | 78.38
Sunshine International Group (HK) Ltd | Dongguan Kwong Wo Stationery Co., Ltd | 78.38
Sunshine International Group (HK) Ltd | Hua Lian Electronics Plastic Stationery Co., Ltd | 78.38
Suzhou Industrial Park You-You Trading Co., Ltd | Linqing YinXing Paper Co., Ltd | 78.38
Suzhou Industrial Park You-You Trading Co., Ltd | Jiaxing Seagull Paper Products Co., Ltd | 78.38
Suzhou Industrial Park You-You Trading Co., Ltd | Shenda Paper Product Factory | 78.38
Suzhou Industrial Park You-You Trading Co., Ltd | Lianyi Paper Product Factory | 78.38
Suzhou Industrial Park You-You Trading Co., Ltd | Changhang Paper Product Factory | 78.38
Suzhou Industrial Park You-You Trading Co., Ltd | Tianlong Paper Product Factory | 78.38
Suzhou Industrial Park You-You Trading Co., Ltd | Rugao Paper Printer Co., Ltd | 78.38
Suzhou Industrial Park You-You Trading Co., Ltd | Yinlong Paper Product Factory | 78.38
You You Paper Products (Suzhou) Co., Ltd | You You Paper Products (Suzhou) Co., Ltd | 78.38
Haijing Stationery (Shanghai) Co., Ltd | Haijing Stationery (Shanghai) Co., Ltd | 78.38
Orient International Holding Shanghai Foreign Trade Co., Ltd | Yalong Paper Products (Kunshan) Co., Ltd | 78.38
Orient International Holding Shanghai Foreign Trade Co., Ltd | Shanghai Comwell Stationery Co., Ltd | 78.38
Orient International Holding Shanghai Foreign Trade Co., Ltd | Yuezhou Paper Co., Ltd | 78.38
Orient International Holding Shanghai Foreign Trade Co., Ltd | Changshu Guangming Stationery Co., Ltd | 78.38
Shanghai Foreign Trade Enterprise Co., Ltd | Shanghai Xin Zhi Liang Culture Products Co., Ltd | 78.38
Shanghai Foreign Trade Enterprise Co., Ltd | Shangyu Zhongsheng Paper Products Co., Ltd | 78.38
Shanghai Foreign Trade Enterprise Co., Ltd | Shanghai Miaoxi Paper Products Factory | 78.38
Shanghai Foreign Trade Enterprise Co., Ltd | Shanghai Xueya Stationery Co., Ltd | 78.38
Anhui Light Industries International Co., Ltd | Shanghai Pudong Wenbao Paper Products Factory | 78.38
Anhui Light Industries International Co., Ltd | Foshan City Wenhai Paper Factory | 78.38
Fujian Hengda Group Co., Ltd | Fujian Hengda Group Co., Ltd | 78.38
Changshu Changjiang Printing Co., Ltd | Changshu Changjiang Paper Industry Co., Ltd | 78.38
Jiaxing Te Gao Te Paper Products Co., Ltd | Jiaxing Te Gao Te Paper Products Co., Ltd | 78.38
Jiaxing Te Gao Te Paper Products Co., Ltd | Jiaxing Seagull Paper Products Co., Ltd | 78.38
Jiaxing Te Gao Te Paper Products Co., Ltd | Jiaxing Boshi Paper Products Co., Ltd | 78.38
Chinapack Ningbo Paper Products Co., Ltd | Jiaxing Te Gao Te Paper Products Co., Ltd | 78.38
Linqing Silver Star Paper Products Co., Ltd | Linqing Silver Star Paper Products Co., Ltd | 78.38
Wah Kin Stationery and Paper Product Limited | Shenzhen Baoan Waijing Development Company | 78.38
Shanghai Pudong Wenbao Paper Products Factory | Shanghai Pudong Wenbao Paper Products Factory | 78.38
Shanghai Pudong Wenbao Paper Products Factory | Linqing Glistar Paper Products Co., Ltd | 78.38
Shanghai Pudong Wenbao Paper Products Factory | Changshu Changjiang Printing Co., Ltd | 78.38
Shanghai Pudong Wenbao Paper Products Factory | Linqing Silver Star Paper Products Co., Ltd | 78.38
Paperline Limited | Shanghai Pudong Wenbao Paper Products Factory | 78.38
Paperline Limited | Linqing Glistar Paper Products Co., Ltd | 78.38
Paperline Limited | Changshu Changjiang Printing Co., Ltd | 78.38
Paperline Limited | Linqing Silver Star Paper Products Co., Ltd | 78.38
Paperline Limited | Jiaxing Te Gao Te Paper Products Co., Ltd | 78.38
Paperline Limited | Yantai License Printing & Making Co., Ltd | 78.38
Yantai License Printing & Making Co., Ltd | Yantai License Printing & Making Co., Ltd | 78.38
Paperline Limited | Anhui Jinhua Import & Export Co., Ltd | 78.38
Essential Industries Limited | Dongguan Yizhi Gao Paper Products Ltd | 78.38
MGA Entertainment (H.K.) Limited | Kon Dai (Far East) Packaging Co., Ltd | 78.38
MGA Entertainment (H.K.) Limited | Dong Guan Huang Giang Rong Da Printing Factory | 78.38
MGA Entertainment (H.K.) Limited | Dong Guan Huang Giang Da Printing Co., Limited | 78.38
Excel Sheen Limited | Dongguan Shipai Fuda Stationery Factory | 78.38
Maxleaf Stationery Ltd | Maxleaf Stationery Ltd | 78.38
PRC Entity* |  | 258.21
*Including Atico, Planet International, the companies that did not respond to the Q&V questionnaire in the underlying investigation, and Watanabe Paper Products.

Notification Regarding Administrative Protective Order

This notice also serves as the only reminder to parties subject to administrative protective order (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and notice in accordance with sections 751(c), 752(c), and 777(i)(1) of the Act.

Dated: November 29, 2011.
Paul Piquado,
Assistant Secretary for Import Administration.

[FR Doc. 2011-31286 Filed 12-5-11; 8:45 am]

BILLING CODE 3510-DS-P